DEPARTMENT OF DEFENSE

Office of the Secretary

[Transmittal No. 23-26]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-26, Policy Justification, and Sensitivity of Technology.

Dated: September 24, 2024.
Aaron T. Siegel,
Alternate OSD Federal Register Liaison Officer, Department of Defense.

BILLING CODE 6001-FR-P

BILLING CODE 6001-FR-C

Transmittal No. 23-26

Notice of Proposed Issuance of Letter of Offer Pursuant to Section 36(b)(1) of the Arms Export Control Act, as amended

(i) Prospective Purchaser: Government of Germany

(ii) Total Estimated Value:

Major Defense Equipment * | $3.35 billion
Other | $5.15 billion
TOTAL | $8.50 billion

(iii) Description and Quantity or Quantities of Articles or Services under Consideration for Purchase:

Major Defense Equipment (MDE):

Sixty (60) CH-47F Block II Cargo Helicopters with customer-unique modifications

One hundred forty (140) T-55-GA-714A Engines (120 installed, 20 spares)

Seventy-two (72) AN/AAR-57 Common Missile Warning Systems (CMWS) (60 installed, 12 spares)

Two hundred eighty-four (284) AN/ARC-231A Communications Security (COMSEC) Radios (240 installed, 44 spares)

Non-MDE:

Also included are AN/AVR-2B Laser Detecting Sets; AN/APR-39C(V)1 Radar Detecting Sets; AN/ARC-220 High Frequency (HF) radios with Electronic Counter-Countermeasures (ECCM); military Precise Positioning Service (PPS) (to include SAASM or M-Code); Digital Advanced Flight Control Systems (DAFCS); AN/APX-123A Identification Friend or Foe (IFF) transponder; AN/ARN-147 Very High Frequency (VHS) Omnidirectional Range and Instrument Landing System (VOR/ILS); AN/ARN-153 Tactical Air Navigation Systems (TACAN); air data computers; AN/APN-209 radar altimeter systems; AN/PYQ-10 simple key loaders; KIV-77 Mode 4/5 IFF Applique; KY-100M Narrowband/Wideband terminal COMSEC devices; AN/AVS-6 Night Vision Devices (NVD); IDM-401 Improved Data Modem; Extended Range Fuel Systems (ERFS); air-to-air refueling probes; M134 gun mounts; Infrared Suppression System (IRSS); Engine Air Particle Separator (EAPS); Ballistic Protection System (BPS) with Cockpit; cabin sides; Midas Underfloor COOLS; Extended Range Fuel System (ERFS) 800 gal and 500 gal; Forward Area Refueling Equipment (FARE); Tie Down Materiel and Helicopter Under-Slung Load Equipment (HUSLE) for internal and external loads; rotorbrake; rescue hoists; Fast Rope Insertion/Extraction System (FRIES); Electro Optical Infrared Sensors (EO/IR); crash resistant pilot and troop seats; skis; life rafts; litter straps and fittings; mission equipment (e.g., jungle penetrator; litter basket; Jacob's Ladder; Airborne Tactical Extraction Platform (AirTEP); special tools and test equipment; ground support equipment; airframe and engine spare parts; technical data; publications; Maintenance Work Orders/Engineering Change Proposals (MWO/ECPs); Repair and Return (R&R); technical assistance; airworthiness assistance; transportation of aircraft; training; flight training and maintenance trainers; and other related elements of logistics and program support.

(iv) Military Department: Army (GY-B-XBA)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: May 11, 2023

* As defined in Section 47(6) of the Arms Export Control Act.

POLICY JUSTIFICATION

Germany—CH-47F Chinook Helicopters

The Government of Germany has requested to buy sixty (60) CH-47F Block II Cargo Helicopters with customer-unique modifications; one hundred forty (140) T-55-GA-714A engines (120 installed, 20 spares); seventy-two (72) AN/AAR-57 Common Missile Warning Systems (CMWS) (60 installed, 12 spares); and two hundred eighty-four (284) AN/ARC-231A Communications Security (COMSEC) radios (240 installed, 44 spares). Also included are AN/AVR-2B Laser Detecting Sets; AN/APR-39C(V)1 Radar Detecting Sets; AN/ARC-220 High Frequency (HF) radios with electronic counter-countermeasures (ECCM); military Precise Positioning Service (PPS) (to include SAASM or M-Code); Digital Advanced Flight Control Systems (DAFCS); AN/APX-123A Identification Friend or Foe (IFF) transponder; AN/ARN-147 very high frequency (VHS) omnidirectional range and instrument landing system (VOR/ILS); AN/ARN-153 Tactical Air Navigation Systems (TACAN); air data computers; AN/APN-209 radar altimeter systems; AN/PYQ-10 simple key loaders; KIV-77 Mode 4/5 IFF Applique; KY-100M narrowband/wideband terminal COMSEC devices; AN/AVS-6 Night Vision Devices (NVD); IDM-401 Improved Data Modem; Extended Range Fuel Systems (ERFS); air-to-air refueling probes; M134 gun mounts; Infrared Suppression System (IRSS); Engine Air Particle Separator (EAPS); Ballistic Protection System (BPS) with Cockpit; cabin sides; Midas Underfloor COOLS; Extended Range Fuel System (ERFS) 800 gal and 500 gal; Forward Area Refueling Equipment (FARE); Tie Down Materiel/Helicopter Under-Slung Load Equipment (HUSLE) for internal and external loads; rotorbrake; rescue hoists; Fast Rope Insertion/Extraction System (FRIES); Electro Optical Infrared Sensors (EO/IR); crash resistant pilot and troop seats; skis; life rafts; litter straps and fittings; mission equipment (e.g., jungle penetrator; litter basket; Jacob's ladder; Airborne Tactical Extraction Platform (AirTEP); special tools and test equipment; ground support equipment; airframe and engine spare parts; technical data; publications; Maintenance Work Orders/Engineering Change Proposals (MWO/ECPs); Repair and Return (R&R); technical assistance; airworthiness assistance; transportation of aircraft; training; flight training and maintenance trainers; and other related elements of logistics and program support. The total estimated cost is $8.5 billion.

This proposed sale will support the foreign policy and national security of the United States by improving the security of a NATO Ally which is an important force for political and economic stability in Europe.

The proposed sale will improve Germany's heavy lift capability. Germany intends to use this enhanced capability to strengthen its homeland defense and deter regional threats. Germany will have no difficulty absorbing this equipment and services into its armed forces.

The proposed sale of this equipment and support will not alter the basic military balance in the region.

The principal contractor will be Boeing Helicopter Company, Philadelphia, PA. There are no known offset agreements proposed in connection with this potential sale.

Implementation of this proposed sale will require the temporary deployment of an estimated thirty (30) contractor representatives to Germany's Main Operating Bases (MOBs) for onsite aircraft technical, maintenance, and logistics support as part of a Performance Based Logistics (PBL) program; training support; and operator and maintenance support for the Transportable Flight Proficiency Simulators (TFPS). This support will be provided for three to five years. The temporary deployment of contractor representatives will include five (5) Field Service Representatives (FSRs), four (4) from Boeing and one (1) from Rockwell Collins. This proposed sale will also require Foreign Liaison Officers be located at Redstone Arsenal and at the Boeing facility.

There will be no adverse impact on U.S. defense readiness as a result of this proposed sale.

Transmittal No. 23-26

Notice of Proposed Issuance of Letter of Offer Pursuant to Section 36(b)(1) of the Arms Export Control Act

Annex

Item No. vii

(vii) Sensitivity of Technology:

1. The Chinook CH-47F is a heavy lift, newly manufactured aircraft. The CH-47F has the Common Avionics Architecture System (CAAS) cockpit, which provides aircraft system, flight, mission, and communication management systems. The CAAS consist of two dual-redundant MIL-STD-1553B data busses and an Ethernet LAN capable of supporting both IEEE 802.3 and ARINC 664. The CAAS includes five multifunction displays (MFDs), two general purpose processor units (GPPUs), two control display units (CDUs), and two data concentrator units (DCUs).

2. The Navigation System will have two military PPS (to include SAASM or M-Code), two Digital Advanced Flight Control Systems (DAFCS), one ARN-147 Very High Frequency (VHS) Omnidirectional Range and Instrument Landing System (VOR/ILS) marker beacon system, one ARN-153 Tactical Air Navigation System (TACAN), two air data computers, and two AN/APN-209 Radar Altimeter system. The communications suite is as follows: four each AN/ARC-231A multi-mode radios providing VHF FM, VHF-AM, UHF, HQ II and Demand Assigned Multiple Access (DAMA) Satellite Communications (SATCOM), and one each AN/ARC-220 High Frequency (HF) Radio. The Identifier, Friend or Foe (IFF) will be the APX-123A, which provides the additional functionality of MODE. Aircraft survivability equipment (ASE) will consist of the Common Missile Warning System (CMWS), AN/AAR-57; the Radar Signal Detecting Set (RSDS), AN/APR-39C(V)1; and the Laser Detecting Set, AN/AVR-2B.

3. Support and fielding for the CH-47F, Block II and installed CAAS would require one copy of technical documentation, along with two (2) Contractor Field Service Representatives.

4. Sensitive technologies include:

a. The AN/ARN-147 combines all VHF Omni Ranging/Instrument Landing System (VOR/ILS) functions into one compact, lightweight, VHF navigation receiver.

b. The AN/ARN-153 is an airborne receiver-transmitter component of the Tactical Airborne Navigation (TACAN) avionics system. The AN/ARN-153(V) supports four modes of operation modes; receive, transmit, air-to-air receive, air-to-air transmit-receive.

c. The AN/APN-209 is a pules type, absolute (radar) altimeter that provides an accurate indication of aircraft altitude over all types or terrain surfaces such as foliage, deep snow, water, and land.

d. The AN/ARC-231A is a software-definable radio for military aircraft that provides two-way, multi-mode voice and data communications over a 30 Hz to 512 MHz frequency range. It supports both line-of-sight Ultra High Frequency (UHF) and Very High Frequency (VHF) bands with AM, FM, and SATCOM capabilities and includes embedded frequency agile modes, Electronic Counter-Countermeasures (ECCM), and anti-jam waveforms such as HAVE QUICK and SINCGARS, Demand Assigned Multiple Access (DAMA), and Integrated Waveform (IW). It provides simultaneous, real-time participation in tactical voice and data communications networks. The embedded RT-1987 radio transceiver will provide National Security Agency (NSA) Tactical Secure Voice Cryptographic Interoperability Specification (TSVCIS) 3.1.1 cryptographic modernization compliance. It also allows for operator-selectable Air Traffic Control (ATC) channel spacing of 5, 8.33, 12.5, and 25kHz steps and other data link and secure communications features, providing battlefield interoperability.

e. The AN/ARC-220 High Frequency (HF) airborne communications system provides embedded Automatic Link Establishment (ALE), serial tone data modem, text messaging, and GPS position reporting functions.

f. The AN/APX-123A Identification Friend or Foe (IFF) Transponder is a space diversity transponder and is installed on various military platforms. It provides identification, altitude, and surveillance reporting in response to interrogations from airborne, ground-based, and surface interrogators.

g. The AN/AAR-57 Common Missile Warning System (CMWS) is an integrated infrared (IR) countermeasures suite utilizing five ultraviolet (UV) sensors to display accurate threat location and dispense decoys and countermeasures either automatically or under pilot or crew control to defeat incoming missile threats.

h. The AN/APR-39 Radar Warning System detects radar-based rangefinders, target designators and beam rider systems targeting an aircraft or vehicle. It is a detection component of the suite of countermeasures designed to increase survivability of current generation combat aircraft and specialized special operations aircraft against the threat posed by laser designated or guided weapons.

i. The AN/AVR-2B Laser Warning Set is a passive laser warning system that receives, processes, and displays threat information resulting from aircraft illumination by lasers on the multi-functional display.

j. The KIV-77 is a Common Crypto Applique for IFF that provides Mode 4/5 capability. The KIV-77 Applique physical dimensions are 3.5 in. × 4.25 in. × 1 in., 16-oz. The KIV-77 can be removed from the host.

k. The TSEC KY-100M is a radio encryptor.

l. The AN/PYQ-10 (C) Simple Key Loader (SKL) is a ruggedized, portable, hand-held fill device used for securely receiving, storing, and transferring electronic key material and data between compatible end cryptographic units (ECU) and communications equipment. It supports both the DS-101 and DS-102 interfaces, as well as the Crypto Ignition Key, and is compatible with existing ECUs.

m. The Improved Data Modem (IDM) is a multi-channel receive and transmit terminal that interoperates with other digital message systems by processing Variable Message Format (VMF) and Air Force Applications Program Development message traffic on the Tactical internet (TI) and Private Network (PN). The IDM provides the essential routing and gateway functionality necessary to support seamless data communication over combat-net radio (CNR) systems and across multiple tactical networks simultaneously. The IDM provides this functionality on a multi-service basis, supporting Army, Navy, Marine Corps, and Air Force operations. The IDM provides a means to participate in Joint Battle Command—Platform/Air (JBC-P/A) communications through the exchange of digital Command and Control (C2) and Situational Awareness (SA) data. The IDM also supports Private Net communications providing connectivity across Army Aviation platforms and connectivity with digital ground systems. The unit is interoperable with the following radio terminals: AN/ARC-164, AN/ARC-186, AN/ARC-201D, AN/ARC-231, Joint Tactical Radio System (JTRS) Airborne and Maritime/Fixed Station (AMF) SA, Blue Force Tracker (BFT) 1 (AVX-06, MT-2011, and KGV-72), and BFT 2 (KGV-72).

n. The AN/AVS-6 Military Grade Night Vision Goggles (NVG) are helmet mounted, optoelectronic devices that allow images to be produced in levels of light approaching total darkness. The image may be a conversion to visible light of both visible light and near-infrared.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that the Government of Germany can provide substantially the same degree of protection for the sensitive technology being released as the U.S. Government. This sale is necessary in furtherance of the U.S. foreign policy and national security objectives outlined in the Policy Justification.

8. All defense articles and services listed in this transmittal have been authorized for release and export to the Government of Germany.

[FR Doc. 2024-22241 Filed 9-26-24; 8:45 am]

BILLING CODE 6001-FR-P